DEPARTMENT OF AGRICULTURE

Forest Service

Ravalli County Resource Advisory Committee

AGENCY: Forest Service, USDA.

ACTION: Notice of meeting.

SUMMARY: The Ravalli County Resource Advisory Committee will be meeting to discuss Fred Burr 80 Project in the field, and hold a short public forum (question and answer session). The meeting is being held pursuant to the authorities in the Federal Advisory Committee Act (Pub. L. 92-463) and under the Secure Rural Schools and Community Self-Determination Act of 2000 (Pub. L. 106-393). The meeting is open to the public.

DATES: The meeting will be held on April 26, 2005, 6:30 p.m.

ADDRESSES: The meeting will be held while driving South to Hamilton, on Highway 93, turning West on Tucker Road (Road #48), turning South on Road 48B connecting with Road #733. Send written comments to Daniel G. Ritter, Acting District Ranger, Stevensville Ranger District, 88 Main Street, Stevensville, MT 59870, by facsimile (406) 777-7423, or electronically to dritter@fs.fed.us.

FOR FURTHER INFORMATION CONTACT: Daniel Ritter, Stevensville District Ranger and Designated Federal Officer, Phone: (406) 777-5461.

Dated: April 20, 2005.
David T. Bull,
Forest Supervisor.

[FR Doc. 05-8396 Filed 4-26-05; 8:45 am]

BILLING CODE 3410-11-M